DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Survey of Program Dynamics.

Form Number(s): SPD-22005, SPD-222105(L), SPD-22107(L), SPD-22103(L), SPD-22113(L).

Agency Approval Number: 0607-0838.

Type of Request: Revision of a currently approved collection.

Burden: 25,138 hours.

Number of Respondents: 41,990.

Avg Hours Per Response: 36 minutes.

Needs and Uses: The Census Bureau seeks OMB approval to conduct the 2002 Survey of Program Dynamics (SPD), the final data collection for this annual survey which began in 1997. The SPD provides the basis for an overall evaluation of how well welfare reforms are achieving the aims of the Administration and the Congress and meeting the needs of the American people. This survey simultaneously measures the important features of the full range of welfare programs, including programs that are being reformed and those that are unchanged, and the full range of other important social, economic, demographic, and family changes that will facilitate or limit the effectiveness of the reforms.

The SPD is a longitudinal study that follows a subset of the respondents from the 1992 and 1993 panels of the Survey of Income and Program Participation (SIPP). The SPD was first implemented in the spring of 1997 with a bridge survey that provided a link to baseline data for the period prior to the implementation of welfare reforms. The first full-scale SPD was conducted in 1998. The data gathered for the 10-year period (1992-2002) will aid in assessing short- to medium-term consequences of outcomes of the welfare legislation.

The 2002 SPD will exclude the self-administered questionnaire (SAQ) which we administered to 12- to 17-year-olds during the 2001 SPD, and will include questions on the extended measures of child well-being, last asked during the 1999 data collection. Due to cost constraints, the sample for the 2002 SPD will be reduced by approximately 30 percent to 20,000 households.

The 2002 SPD will be conducted by our interviewing staff using a computer-assisted interviewing instrument on laptops during personal and telephone interviews. As in previous years, we will offer monetary incentives to select groups of respondents in order to maintain and improve response rates.

Affected Public: Individuals or households.

Frequency: Annually.

Respondent's Obligation: Voluntary.

Legal Authority: Title 42 U.S.C., section 614.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: January 10, 2002.
Madeleine Clayton,
Departmental Paperwork Clearance Officer, Office of the Chief Information Officer.

[FR Doc. 02-1036 Filed 1-15-02; 8:45 am]

BILLING CODE 3510-07-P